DEPARTMENT OF LABOR

Employment and Training Administration

[TA-W-52,653]

Progressive Processing, Elyria, OH; Notice of Termination of Investigation

Pursuant to section 221 of the Trade Act of 1974, as amended, an investigation was initiated on August 21, 2003, in response to a petition filed by the United Steelworkers of America, District 1/Sub-District 1, on behalf of workers at Progressive Processing, Elyria, Ohio.

The petitioner has requested that the petition be withdrawn. Consequently, the investigation has been terminated.

Signed at Washington, DC this 3rd day of September 2003.
Richard Church,
Certifying Officer, Division of Trade Adjustment Assistance.

[FR Doc. 03-24692 Filed 9-29-03; 8:45 am]

BILLING CODE 4510-30-P